DEPARTMENT OF TRANSPORTATION

Federal Aviation Administration

14 CFR Part 39

[Docket No. 2002-NM-49-AD; Amendment 39-14081; AD 2005-10-04]

RIN 2120-AA64

Airworthiness Directives; Airbus Model A319, A320, and A321 Series Airplanes

AGENCY: Federal Aviation Administration, DOT.

ACTION: Final rule.

SUMMARY: This amendment adopts a new airworthiness directive (AD), applicable to certain Airbus Model A319, A320, and A321 series airplanes. This AD requires repetitive inspections of the left- and right-side main landing gear (MLG) side-stay cuff lugs and down-lock spring attachments for evidence of cracked or fractured side-stay cuff lugs or down-lock spring attachments, and repair if necessary. This AD also provides for optional terminating action for the repetitive inspections. This action is necessary to prevent failure of the MLG side-stay cuff lugs or down-lock spring attachments, which could result in improper down-lock of the MLG during a freefall extension, and possible collapse of the MLG. This action is intended to address the identified unsafe condition.

DATES: Effective June 15, 2005.

The incorporation by reference of a certain publication listed in the regulations is approved by the Director of the Federal Register as of June 15, 2005.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) to include an airworthiness directive (AD) that is applicable to certain Airbus Model A319, A320, and A321 series airplanes was published in the Federal Register on October 15, 2003 (68 FR 59347). That action proposed to require repetitive inspections of the left- and right-side main landing gear (MLG) side-stay cuff lugs and down-lock spring attachments for evidence of cracked or fractured side-stay cuff lugs or down-lock spring attachments, and repair if necessary. That action also provided for optional terminating action for the repetitive inspections.

Comments

Interested persons have been afforded an opportunity to participate in the making of this amendment. Due consideration has been given to the comments received.

Support of the Proposed AD

Several commenters, including the airplane manufacturer, support the intent of the proposed AD.

Request To Reference Revised Service Information

Several commenters note that Airbus has revised the service information cited in the proposed AD. The commenters suggest that the proposed AD be changed to reference the revised service information, as identified in the following table.

Table—Revised Service Information/Service Information Cited in Proposed AD
Revised Airbus service information— | Cited in the proposed AD as— | For accomplishing the— | Referenced in the following paragraph(s) of the proposed AD—
Airbus A319/A320/A321 Maintenance Planning Document, Revision 26a, dated July 31, 2003 | Airbus A318/A319/A320/A321 Maintenance Planning Document, Revision 25, dated October 2001 | Alternative to the inspection requirements in paragraph (a) of the proposed AD | (d)
A320-32-1223, Revision 01, dated June 11, 2002 | A320-32-1223, dated March 5, 2001 | Optional terminating action | (e)
A320-32A1224, Revision 01, dated June 11, 2002 | A320-32A1224, dated January 18, 2001 | Inspection and part replacement | (a) and (c)

We agree that this AD should reference the revised Airbus service information. We have reviewed the revised service information and determined that the majority of changes are editorial. Revision 01 of Service Bulletin A320-32A1224 includes the compliance times mandated in French airworthiness directive 2002-075(B), dated January 23, 2002. Instead of referring operators to Chapter 32-11-19 of the Airbus A319/A320/A321 Aircraft Maintenance Manual, Revision 01 includes Figure 1, which shows the inspection areas for the side-stay cuffs and links. We have revised paragraphs (a) and (c) of this AD to reference Airbus Service Bulletin A320-32A1224, Revision 01, dated June 11, 2002, and removed the citation for the original issue of that service bulletin. We have also included a new paragraph (d) in this AD to give credit for inspections and part replacements accomplished before the effective date of this AD, in accordance with the Accomplishment Instructions of Airbus Service Bulletin A320-32A1224, dated January 18, 2001, and changed the designations of the subsequent paragraphs.

We have revised paragraph (e) of this AD (paragraph (d) of the proposed AD) to include Revision 26a, dated July 31, 2003, of the Airbus A318/A319/A320/A321 Maintenance Planning Document (MPD). In addition, we have revised the description of task number 321119-01-1 to reflect the description as changed in Revision 26a of the MPD.

In addition, we have revised paragraph (f) of this AD (paragraph (e) of the proposed AD) to include the citation for Service Bulletin A320-32-1223, Revision 01, dated June 11, 2002, as an additional source of service information for accomplishing the optional terminating action.

Request To Change Type of Inspection

Two commenters note that paragraph (a) of the proposed AD specifies that operators should do a detailed inspection for cracked or fractured lugs. The commenters point out that the parallel French airworthiness directive, 2002-075(B), dated January 23, 2002; Airbus Service Bulletin A320-32A1224, Revision 01; and task number 321119-01-1, “Mechanism Visual Check of Main Landing Gear Downlocking Springs and Side-stay Center Joint Links and Cuff,” of the Airbus A318/A319/A320/A321 MPD; recommend a visual check to ensure the lugs are not ruptured. The commenters suggest that the inspection terminology in the proposed AD be changed from “detailed inspection” to “visual check” in order to harmonize with the Airbus service information. One commenter states that the intent of the action is to look for obvious damage; therefore, visual check is more appropriate verbiage than detailed inspection.

We agree with the intent of the commenters' requests and have revised paragraph (a) of this AD to reference a “general visual inspection” instead of a “detailed inspection.” We also revised Note 1 of this AD to provide the definition of a general visual inspection. When included in an AD, the term “check” means something other than a cursory inspection of an item, and the requirements of this AD do not warrant the use of that term.

Request To Revise Compliance Time

One commenter requests that the compliance times in paragraph (a) of the proposed AD be changed from flight hours to flight cycles. Specifically, the commenter requests that paragraph (a)(1) of the proposed AD be changed from “Within 60 months from the first entry into service of the MLG, or before the accumulation of 9,000 total flight hours on the MLG, whichever occurs first” to “Within 60 months from the first entry into service of the MLG, or before 7,200 total flight cycles on the MLG, whichever occurs first.” The commenter also requests that the compliance time in paragraph (a)(2) of the proposed AD be changed from “Within 500 flight hours on the MLG after the effective date of this AD” to “Within 500 flight cycles on the MLG after the effective date of this AD.” The commenter states that it tracks MLG side-stays by flight cycles, in accordance with its approved maintenance program, and that changing the initial inspection to flight cycles would allow the inspection to be incorporated within a scheduled maintenance check. The commenter did not provide any information regarding how it converted 9,000 total flight hours to 7,200 total flight cycles, or how it converted 500 flight hours to 500 flight cycles.

We agree with the intent of the commenter's request, but we do not agree to revise the compliance times in paragraphs (a)(1) and (a)(2) of this AD from flight hours to flight cycles. We do not have any technical justification for making the requested changes. When determining the compliance time for this AD, we considered the compliance time specified in the parallel French airworthiness directive, the airplane manufacturer's recommendation, and the average utilization of the affected fleet. According to the provisions of paragraph (g) of this AD, anyone may submit a request to adjust the compliance time if the request includes data that justify that a different compliance time would provide an acceptable level of safety. We have not changed this AD regarding this issue.

Explanation of Change to This AD

Paragraphs (b), (c), and (e) of this AD have been revised to change the repetitive inspection intervals from 500 flight cycles to 500 flight hours. Although the French airworthiness directive, the Airbus service information, and the compliance times in paragraph (a) of this AD state compliance times in flight hours, we inadvertently stated the repetitive inspection intervals in flight cycles instead of flight hours.

Conclusion

We have carefully reviewed the available data, including the comments that have been submitted, and determined that air safety and the public interest require adopting the AD with the changes described previously. We have determined that these changes will neither increase the economic burden on any operator nor increase the scope of the AD.

Cost Impact

We estimate that 367 airplanes of U.S. registry will be affected by this AD, that it will take approximately 2 work hours per airplane to accomplish the required actions, and that the average labor rate is $65 per work hour. Based on these figures, the cost impact of the AD on U.S. operators is estimated to be $130 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-10-04 Airbus: Amendment 39-14081. Docket 2002-NM-49-AD.

Applicability: Airbus Model A319, A320, and A321 series airplanes; certificated in any category; except those airplanes on which Airbus Modification 30648 has been installed.

Compliance: Required as indicated, unless accomplished previously.

To prevent failure of the MLG side-stay cuff lugs or down-lock spring attachments, which could result in improper down-lock of the MLG during a freefall extension, and possible collapse of the MLG, accomplish the following:

Inspection

(a) Do a general visual inspection of the left- and right-side main landing gear (MLG) side-stay cuff lugs and down-lock spring attachments to detect failures (cracked or fractured lugs), in accordance with the Accomplishment Instructions of Airbus Service Bulletin A320-32A1224, Revision 01, dated June 11, 2002, at the later of the times specified in paragraphs (a)(1) and (a)(2) of this AD.

(1) Within 60 months from the first entry into service of the MLG, or before the accumulation of 9,000 total flight hours on the MLG, whichever occurs first.

(2) Within 500 flight hours on the MLG after the effective date of this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(b) If, during any inspection required by paragraph (a) of this AD, no crack or fracture is detected: Repeat the inspection required by paragraph (a) of this AD thereafter at intervals not to exceed 500 flight hours until the actions specified in paragraph (f) of this AD are accomplished.

(c) If, during any inspection required by paragraph (a) of this AD, any crack or fracture is detected: Before further flight, replace any discrepant part with a new part of the same type in accordance with the Accomplishment Instructions of Airbus Service Bulletin A320-32A1224, Revision 01, dated June 11, 2002. Repeat the inspection required by paragraph (a) of this AD thereafter at intervals not to exceed 500 flight hours until the actions specified in paragraph (f) of this AD are accomplished.

Actions Accomplished Previously per Earlier Revision of the Service Bulletin

(d) Inspections and part replacements accomplished before the effective date of this AD in accordance with the Accomplishment Instructions of Airbus Service Bulletin A320-32A1224, dated January 18, 2001, are considered acceptable for compliance with the requirements of paragraphs (a), (b), and (c) of this AD.

Actions Accomplished per the Maintenance Planning Document

(e) Compliance with task number 321119-01-1, “Mechanism Visual Check of Main Landing Gear Downlocking Springs and Side-stay Center Joint Links and Cuff,” in Revision 25, dated October 2001; or Revision 26a, dated July 31, 2003; of the Airbus A318/A319/A320/A321 Maintenance Planning Document; is considered acceptable for compliance with the inspection requirements of paragraph (a) of this AD. Operators should note that this task requires repetitive inspections at 8-day intervals, instead of intervals not to exceed 500 flight hours.

Optional Terminating Action

(f) Replacement of the MLG side-stay lugs and links on the left and right sides of the airplane, with lugs and links made of new, improved material, in accordance with Airbus Service Bulletin A320-32-1223, dated March 5, 2001; or Revision 01, dated June 11, 2002; terminates the repetitive inspections required by paragraphs (b) and (c) of this AD.

Alternative Methods of Compliance

(g) In accordance with 14 CFR 39.19, the Manager, International Branch, ANM-116, Transport Airplane Directorate, FAA, is authorized to approve alternative methods of compliance for this AD.

Incorporation by Reference

(h) Unless otherwise specified in this AD, the actions must be done in accordance with Airbus Service Bulletin A320-32A1224, Revision 01, dated June 11, 2002. This incorporation by reference was approved by the Director of the Federal Register in accordance with 5 U.S.C. 552(a) and 1 CFR part 51. To get copies of this service information, go to Airbus, 1 Rond Point Maurice Bellonte, 31707 Blagnac Cedex, France. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Note 2: The subject of this AD is addressed in French airworthiness directive 2002-075(B), dated January 23, 2002.

Effective Date

(i) This amendment becomes effective on June 15, 2005.

Issued in Renton, Washington, on April 29, 2005.
Ali Bahrami,
Manager, Transport Airplane Directorate, Aircraft Certification Service.

[FR Doc. 05-9196 Filed 5-10-05; 8:45 am]

BILLING CODE 4910-13-P